EXPORT-IMPORT BANK

[Public Notice: 2023-6050]

Agency Information Collection Activities; Submission to the Office of Management and Budget for Review and Approval; Comment Request; Application for Equity Express Select Insurance

AGENCY: Export-Import Bank of the United States.

ACTION: Notice of information collection; request for comment.

SUMMARY: The Export-Import Banks of the United States (EXIM), as part of its continuing effort to reduce paperwork and respondent burden, invites the general public and other Federal Agencies to comment on the proposed information collection, as required by the Paperwork Reduction Act of 1995.

DATES: Comments must be received on or before January 8, 2024 to be assured of consideration.

ADDRESSES: Comments may be submitted electronically on WWW.REGULATIONS.GOV (EIB 10-02) or by email Jennifer.Krause@exim.gov, or by mail to Jennifer Krause, Export-Import Bank of the United States, 811 Vermont Ave. NW Washington, DC.

FOR FURTHER INFORMATION CONTACT: To request additional information, please contact Jennifer Krause, Jennifer.Krause@exim.gov, 305-526-7436 x24.

SUPPLEMENTARY INFORMATION: This form is used by an exporter (or broker acting on its behalf) in order to obtain approval for coverage of the repayment risk of export sales. The information received allows EXIM staff to make a determination of the eligibility of the applicant and the creditworthiness of one of the applicant's foreign buyers for EXIM assistance under its programs.

The application tool can be reviewed at: https://img.exim.gov/s3fs-public/pub/pending/eib23-02.pdf.

Title and Form Number: EIB 23-02, Application for Equity Express Select Insurance.

OMB Number: 3048-XXXX.

Type of Review: Regular.

Need and Use:

This is the application form for use by underserved U.S. businesses with limited export experience. Companies that are eligible to use the Equity Express Select policy will need to answer approximately 20 questions and sign an acknowledgement of the certifications that appear on the reverse of the application form. This program does not provide discretionary credit authority to the U.S. exporter, and therefore the financial and credit information needs are minimized.

Affected Public: This form affects entities involved in the export of U.S. goods and services.

Annual Number of Respondents: 500.

Estimated Time per Respondent: 0.25 hours.

Annual Burden Hours: 125 hours.

Frequency of Reporting of Use: Once per year.

Dated: November 3, 2023.
Kalesha Malloy,
IT Specialist and Privacy Officer.

[FR Doc. 2023-24747 Filed 11-8-23; 8:45 am]

BILLING CODE 6690-01-P